DEPARTMENT OF HOMELAND SECURITY

U.S. Customs and Border Protection

DEPARTMENT OF THE TREASURY

19 CFR Part 12

[CBP Dec. 18-02]

RIN 1515-AE37

Extension of Import Restrictions Imposed on Certain Archaeological Material From Belize

AGENCY: U.S. Customs and Border Protection, Department of Homeland Security; Department of the Treasury.

ACTION: Final rule.

SUMMARY: This final rule amends U.S. Customs and Border Protection (CBP) regulations to reflect the extension of import restrictions on certain archaeological material from Belize. These restrictions, which were imposed by CBP Dec. 13-05, are due to expire on February 27, 2018, unless extended. The Acting Assistant Secretary for Educational and Cultural Affairs, United States Department of State (Department of State), has determined that conditions continue to warrant the imposition of import restrictions. Accordingly, the restrictions will remain in effect for an additional five years, and the CBP regulations are being amended to indicate this additional extension. These restrictions are being extended pursuant to determinations of the Department of State under the terms of the Convention on Cultural Property Implementation Act, which implements the 1970 United Nations Educational, Scientific and Cultural Organization (UNESCO) Convention on the Means of Prohibiting and Preventing the Illicit Import, Export and Transfer of Ownership of Cultural Property. CBP Dec. 13-05 contains the Designated List of archaeological material that describes the articles to which the restrictions apply.

DATES: Effective February 27, 2018.

FOR FURTHER INFORMATION CONTACT: For legal aspects, Lisa L. Burley, Chief, Cargo Security, Carriers and Restricted Merchandise Branch, Regulations and Rulings, Office of Trade, (202) 325-0215, lisa.burley@cbp.dhs.gov. For operational aspects, William R. Scopa, Branch Chief, Partner Government Agency Branch, Trade Policy and Programs, Office of Trade, (202) 863-6554, william.r.scopa@cbp.dhs.gov.

SUPPLEMENTARY INFORMATION:

Background

Pursuant to the provisions of the Convention on Cultural Property Implementation Act (hereafter, the Cultural Property Implementation Act or the Act) (Pub. L. 97-446, 19 U.S.C. 2601 et seq.), which implements the 1970 United Nations Educational, Scientific and Cultural Organization (UNESCO) Convention on the Means of Prohibiting and Preventing the Illicit Import, Export and Transfer of Ownership of Cultural Property (hereinafter, the Convention), in U.S. law, the United States may enter into an international agreement with another State Party to the Convention to impose import restrictions on eligible archaeological and ethnological materials under procedures and requirements prescribed by the Act. Under the Act and applicable CBP regulations (19 CFR 12.104g), the restrictions are effective for no more than five years beginning on the date on which the agreement enters into force with respect to the United States (19 U.S.C. 2602(b)). This period may be extended for additional periods, not to exceed five years, if it is determined that the factors justifying the initial agreement still pertain and no cause for suspension of the agreement exists (19 U.S.C. 2602(e); 19 CFR 12.104g(a)).

On February 27, 2013, the United States entered into a bilateral agreement with the Government of Belize concerning the imposition of import restrictions on certain categories of archaeological material originating in Belize, pursuant to the Act. (The agreement can be found online at https://eca.state.gov/files/bureau/bzmou2013.pdf.) On March 5, 2013, CBP published CBP Dec. 13-05 in the Federal Register (78 FR 14183), which amended 19 CFR 12.104g(a) to reflect the imposition of restrictions on this material and included a list designating the types of archaeological material covered by the restrictions. These restrictions were to be effective through February 27, 2018.

On January 12, 2018, after reviewing the findings and recommendations of the Cultural Property Advisory Committee, the Acting Assistant Secretary for Educational and Cultural Affairs, Department of State, concluding that the cultural heritage of Belize continues to be in jeopardy from pillage of certain archaeological material, made the necessary statutory determinations, and decided to extend the agreement with Belize for an additional five-year period to February 27, 2023. Diplomatic notes have been exchanged that reflect the extension of the agreement. Accordingly, CBP is amending 19 CFR 12.104g(a) in order to reflect the extension of the import restrictions pursuant to the agreement.

The Designated List of Archaeological Material originating in Belize covered by these import restrictions is set forth in CBP Dec. 13-05, which can be found online at: https://eca.state.gov/files/bureau/bz2013dlfrn.pdf.

The restrictions on the importation of this archaeological material originating in Belize are to continue in effect for an additional five years. Importation of such material continues to be restricted unless the conditions set forth in 19 U.S.C. 2606 and 19 CFR 12.104c are met.

Inapplicability of Notice and Delayed Effective Date

This amendment involves a foreign affairs function of the United States and is, therefore, being made without notice or public procedure (5 U.S.C. 553(a)(1)). In addition, CBP has determined that such notice or public procedure would be impracticable and contrary to the public interest because the action being taken is essential to avoid interruption of the application of the existing import restrictions (5 U.S.C. 553(b)(B)). For the same reason, a delayed effective date is not required under 5 U.S.C 553(d)(3).

Regulatory Flexibility Act

Because no notice of proposed rulemaking is required, the provisions of the Regulatory Flexibility Act (5 U.S.C. 601 et seq.) do not apply.

Executive Orders 12866 and 13771

Because this rule involves a foreign affairs function of the United States, it is not subject to either Executive Order 12866 or Executive Order 13771.

Signing Authority

This regulation is being issued in accordance with 19 CFR 0.1(a)(1).

List of Subjects in 19 CFR Part 12

Cultural property, Customs duties and inspection, Imports, Prohibited merchandise.

Amendment to CBP Regulations

For the reasons set forth above, part 12 of Title 19 of the Code of Federal Regulations (19 CFR part 12), is amended as set forth below.

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

§ 12.104g [Amended]

2. In § 12.104g, the table in paragraph (a) is amended in the entry for Belize by adding the words “extended by “CBP Dec. 18-02” after the words “CBP Dec. 13-05” in the column headed “Decision No.”.

Kevin K. McAleenan,
Acting Commissioner, U.S. Customs and Border Protection.
Approved: February 21, 2018.
Timothy E. Skud,
Deputy Assistant Secretary of the Treasury.

[FR Doc. 2018-03946 Filed 2-26-18; 8:45 am]

BILLING CODE 9111-14-P